DEPARTMENT OF TRANSPORTATION

Federal Railroad Administration

[Docket No. FRA-2025-0062]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On December 3, 2025, FRA published a notice providing a 60-day period for public comment on the ICR. FRA received zero comments in response to the notice.

DATES: Interested persons are invited to submit comments on or before March 20, 2026.

ADDRESSES: Written comments and recommendations for the proposed ICR should be sent within 30 days of publication of this notice to https://www.reginfo.gov/public/do/PRAMain. Find the particular ICR by selecting “Currently under Review—Open for Public Comments” or by using the search function.

FOR FURTHER INFORMATION CONTACT: Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On December 3, 2025, FRA published a 60-day notice in the Federal Register soliciting public comment on the ICR for which it is now seeking OMB approval. See 90 FR 55778. FRA received zero comments related to the proposed collection of information.

Before OMB decides whether to approve this proposed collection of information, it must provide 30 days' notice for public comment. Federal law requires OMB to approve or disapprove paperwork packages between 30 and 60 days after the 30-day notice is published. 44 U.S.C. 3507(b) and (c); 5 CFR 1320.12(d); see also 60 FR 44978, 44983 (Aug. 29, 1995). The 30-day notice informs the regulated community of their opportunity to file relevant comments and affords the agency adequate time to consider public comments before it renders a decision. 60 FR 44983 (Aug. 29, 1995). Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Certification of Glazing Materials.

OMB Control Number: 2130-0525.

Abstract: Title 49 CFR part 223 contains requirements for certification and permanent marking of glazing materials by the manufacturer. The manufacturer must make test verification data available to railroads and to FRA upon request.

In this 30-day notice, FRA has revised the total responses and burden hours from those previously reported estimates in the 60-day notice.¹ After further review, the number of small hammers (or like tools or instruments) requiring markings under § 223.3 was reduced from 400 to 100. This estimate more accurately accounts for the loss and replacement of the small hammers and the limited number of cars that make use of this equipment for removing or breaking an emergency window. This reduced the overall total annual burden for this information collection from 262 hours to 55 hours annually.

¹ 90 FR 55778.

Type of Request: Extension without change (with changes in estimates) of a currently approved collection.

Affected Public: Businesses (railroads and manufacturers of glazing materials).

Form(s): N/A.

Respondent Universe: 25 railroads and 3 manufacturers.

Frequency of Submission: On occasion.

Total Estimated Annual Responses: 110.

Total Estimated Annual Burden: 55 hours.

Total Estimated Annual Burden Hour Dollar Cost Equivalent: $3,925.65.

FRA informs all interested parties that it may not conduct or sponsor, and a respondent is not required to respond to, a collection of information that does not display a currently valid OMB control number.

Authority: 44 U.S.C. 3501-3520.

Christopher S. Van Nostrand,
Deputy Chief Counsel.

[FR Doc. 2026-03148 Filed 2-17-26; 8:45 am]

BILLING CODE 4910-06-P